DEPARTMENT OF HOMELAND SECURITY

Privacy Office; Published Privacy Impact Assessments on the Web

AGENCY: Privacy Office, Office of the Secretary, Department of Homeland Security.

ACTION: Notice of publication of Privacy Impact Assessments.

SUMMARY: The Privacy Office of the Department of Homeland Security is making available fourteen (14) Privacy Impact Assessments on various programs and systems in the Department. These assessments were approved and published on the Privacy Office's Web site between April 1, 2007 and June 30, 2007.

DATES: The Privacy Impact Assessments will be available on the DHS Web site until October 12, 2007, after which they may be obtained by contacting the DHS Privacy Office (contact information below).

FOR FURTHER INFORMATION CONTACT: Hugo Teufel III, Chief Privacy Officer, Department of Homeland Security, Mail Stop 0550, Washington, DC 20528, or e-mail: pia@dhs.gov.

SUPPLEMENTARY INFORMATION: Between April 1, 2007 and June 30, 2007, the Chief Privacy Officer of the Department of Homeland Security (DHS) approved and published fourteen (14) Privacy Impact Assessments (PIAs) on the DHS Privacy Office Web site, http://www.dhs.gov/privacy, under the link for “Privacy Impact Assessments.” Below is a short summary of each of those systems, indicating the DHS component responsible for the system, and the date on which the PIA was approved. Additional information can be found on the Web site or by contacting the Privacy Office.

System: Verification Information System.

Component: U.S. Citizenship and Immigration Services.

Date of approval: April 2, 2007.

U.S. Citizenship and Immigration Services (USCIS) provides immigration status verification for benefits determinations and employment authorization through the Verification Division of USCIS. Presently, two programs exist to implement this mandate: The Systematic Alien Verification for Entitlements (SAVE) program for government benefits and the Employment Eligibility Verification/Basic Pilot Program for private employer verification of employment authorization for all newly hired employees. The Verification Information System (VIS), a composite information system incorporating data from various DHS databases, is the underlying information technology that supports these programs. USCIS conducted this PIA to describe updates to VIS that will improve the ability of USCIS to provide citizenship and immigration status information to users of SAVE and Basic Pilot.

System: Automated Continuing Evaluation System Pilot.

Component: Management, Office of Security.

Date of approval: April 9, 2007.

DHS is working with the Department of Defense to pilot the Automated Continuing Evaluation System (ACES). ACES conducts automated records checks to identify new issues of security concern for DHS personnel and contractors requiring a security clearance. During the ACES pilot, DHS will assess the feasibility of using ACES for initial and continuing evaluation of DHS security clearance holders. This PIA is for the DHS implementation of the ACES Pilot.

System: 24 x 7 Incident Handling and Response Center.

Component: National Protection and Programs.

Date of approval: April 2, 2007.

The 24 x 7 Incident Handling and Response Center (“24 x 7”) focuses on ways to gather cyber information prior to attacks and to use that information to prevent attacks, protect computing infrastructure, and respond/restore where attacks are successful. 24 x 7 serves as a communication hub for the United States Computer Readiness Team (US-CERT) program, issuing regular security and warning bulletins, serving as a gateway for public contribution and outreach, and also serving as a ticketing center through which tasks may be delegated out to the various US-CERT programs.

System: Automated Identification Management System.

Component: US VISIT.

Date of approval: May 14, 2007.

In accordance with the guidance issued by the Office of Management and Budget (OMB) implementing the E-Government Act of 2002 to promote program transparency and address any privacy concerns, this revision of the United States Visitor and Immigrant Status Indicator Technology (US-VISIT) Program PIA is prompted by the decommissioning of the Automated Identification Management System (AIDMS).

System: “Biometrics at Sea” Mona Passage Proof of Concept Update.

Component: United States Coast Guard.

Date of approval: May 15, 2007.

This is an update to the previous PIA for the U.S. Coast Guard (Coast Guard) Biometrics At Sea Mona Passage Proof of Concept, dated November 3, 2006. This update describes new means by which the Coast Guard will transmit information to the US-VISIT Automated Biometric Identification System (IDENT) in connection with the Coast Guard Biometrics At Sea Mona Pass Proof of Concept program. With the addition of capabilities described in this update, the Coast Guard will be able to transmit biometric data obtained from undocumented aliens that the Coast Guard interdicts in the Mona Passage directly to US-VISIT via secure, encrypted satellite communications for analysis against the IDENT database. Biometric information to be searched against will no longer be stored on the laptops. If there is a communications failure, the Coast Guard may revert back to the ability to search biometric data against the distributed IDENT data sets on stand-alone non-networked secured laptop computers on board Coast Guard cutters more fully described in the November 3, 2006 PIA.

System: Enumeration Services of the Automated Biometric Identification System.

Component: US VISIT.

Date of approval: May 25, 2007.

The Automated Biometric Identification System (IDENT) is the primary repository of biometric information held by DHS in connection with its several and varied missions and functions, including but not limited to: The enforcement of civil and criminal laws (including immigration laws); investigations, inquiries, and proceedings in connection with those missions and functions; and national security and intelligence activities. IDENT is a centralized and dynamic DHS-wide biometric database. The DHS US-VISIT program is publishing this PIA update for the IDENT to describe the changes to IDENT required to support enumeration services, a new service offering from IDENT. Enumeration services generates a unique personal identifier, known as an enumerator, for each individual for whom ten fingerprints and minimal biographic data has been collected in IDENT. Within IDENT the enumerator will be used to uniquely identify individuals and to link and retrieve immigration and border management records with a single identifier instead of multiple identifiers. This PIA has been conducted because the addition of enumerator services constitutes a significant change to IDENT.

System: USCIS Secure Information Management Service Pilot with Inter-country Adoptions.

Component: United States Citizenship and Immigration Services.

Date of approval: May 24, 2007.

United States Citizenship and Immigration Services (USCIS) prepared a PIA for the Secure Information Management Service (SIMS) Pilot. Using the inter-country adoption caseload as a “proof-of-concept” for SIMS, this pilot will: (a) Demonstrate the case processing capability of the case management system, (b) verify that an enumerator (unique identifier based on biometrics) supports the USCIS person-centric business process, and (c) verify that the case management system can be used to view digitized files. This PIA covers the initial deployment of the SIMS and will be supplemented accordingly as additional USCIS applications and system functionalities are added to the SIMS.

System: Chemical Security Assessment Tool Update.

Component: National Protection and Programs.

Date of approval: May 25, 2007.

This is an update to the previous Chemical Security Assessment Tool (CSAT) PIA in order to describe the additional Web site functionality, the new eligibility requirements for CSAT users, and the deployment of the CSAT Help Desk. CSAT collects personally identifiable information from CSAT users and/or CVI Web site users. Further, the CSAT Help Desk may collect contact information from both CSAT users requesting basic CSAT IT support or from the general public inquiring about the CSAT program.

System: Department of Homeland Security General Contact Lists.

Component: Department Wide.

Date of approval: June 15, 2007.

Many DHS operations and projects collect a minimal amount of contact information in order to distribute information and perform various other administrative tasks. Department Headquarters has conducted this privacy impact assessment because contact lists contain personally identifiable information. Programs that follow the policies and procedures outlined in this PIA are noted in the Appendix.

System: Protected Critical Infrastructure Information Management System.

Component: National Protection and Programs.

Date of approval: June 20, 2007.

The Protected Critical Infrastructure Information (PCII) Program, part of the DHS Infrastructure Partnerships Division, is an information-protection tool that facilitates the sharing of PCII between the government and the private sector. The Protected Critical Infrastructure Information Management System is an Information Technology system and the means by which PCII submissions from the private sector will be cataloged. The PCII Program conducted this PIA because PII from the submitting individuals is collected for contact purposes.

System: USCIS Enterprise Service Bus.

Component: US Citizenship and Immigration Services.

Date of approval: June 22, 2007.

The USCIS Enterprise Service Bus (ESB) was developed by the USCIS Office of Information Technology (OIT) to facilitate information sharing and integration between USCIS systems, and across DHS components and other agencies, such as the Department of State. The ESB is a set of commercial off-the-shelf software that provides a standardized infrastructure to connect to multiple systems and services. This is a new infrastructure component within USCIS that will be incrementally enhanced to provide support for multiple service interfaces. This PIA will be updated to reflect those material changes.

System: USCIS Person Centric Query Service.

Component: US Citizenship and Immigration Services.

Date of approval: June 22, 2007.

The Rice/Chertoff Initiative is an information sharing initiative between the Department of Homeland Security, USCIS and Department of State (DOS), Bureau of Counselor Affairs to share immigration and visa data between agencies. To support this information sharing initiative, the USCIS OIT developed a new service called the Person Centric Query (PCQ) Service that will improve the existing business information sharing capabilities between DHS and DOS. The PCQ Service provides authorized DHS/DOS users with a consolidated view of all information about an individual in selected USCIS and DOS data bases. This new service will improve efficiency of user searches, facilitate information sharing, increase the quality and accuracy of the underlying data, and increase the security of the information being shared among systems.

System: Homeland Security Information Network Communities of Interest.

Component: Operations.

Date of approval: June 22, 2007.

The Homeland Security Information Network (HSIN) is designed to facilitate the secure integration and interoperability of information sharing resources amongst federal, state, local, tribal, private sector commercial, and other non-governmental stakeholders involved in identifying and preventing terrorism as well as in undertaking incident management activities. As part of the information sharing efforts HSIN supports, HSIN has established different Communities of Interest within the HSIN network.

System: Central Index System.

Component: US Citizenship and Immigration Services.

Date of approval: June 22, 2007.

The DHS USCIS maintains the Central Index System (CIS), a database system originally developed by the legacy Immigration and Naturalization Service. CIS contains information on the status of 57 million applicants/petitioners seeking immigration benefits to include: lawful permanent residents, naturalized citizens, U.S. border crossers, aliens who illegally entered the U.S., aliens who have been issued employment authorization documents, individuals who petitioned for benefits on behalf of family members, and other individuals subject to the provisions of the Immigration and Nationality Act. This PIA addresses the current status of CIS, and will be updated accordingly as additional USCIS applications and system functionalities are added to CIS.

Dated: August 6, 2007.
Hugo Teufel III,
Chief Privacy Officer.

[FR Doc. E7-15817 Filed 8-10-07; 8:45 am]

BILLING CODE 4410-10-P